DEPARTMENT OF HEALTH AND HUMAN SERVICES

Centers for Disease Control and Prevention

[60Day-21-21HD; Docket No. CDC-2021-0080]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled One Health SARS-CoV-2 Animal Testing Form, which aims to improve the scientific community's understanding of the number of animals state officials report are tested for SARS-CoV-2, including the associated epidemiological data and testing results.

DATES: CDC must receive written comments on or before October 12, 2021.

ADDRESSES: You may submit comments, identified by Docket No. CDC-2021-0080 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

One Health SARS-CoV-2 Animal Testing Form—New—National Center for Emerging and Zoonotic Infectious Diseases (NCEZID), Centers for Disease Control and Prevention (CDC).

Background and Brief Description

The goal of this project is to collect information from state, tribal, local, and territorial partners on the scope and context of SARS-CoV-2 testing in animals in order to understand and monitor testing burden and prevalence of the virus among animal populations. Currently, most animal samples that test positive for SARS-CoV-2 are confirmed by the United States Department of Agriculture (USDA) National Veterinary Services Lab (NVSL), and are reported to the World Organization for Animal Health (OIE). However, no reporting requirements or mechanisms are in place to determine the number of negative results, total number of samples tested, and samples for which testing was not approved by state, territorial, local, or tribal health authorities. Additional information on the overall number of animals tested for SARS-CoV-2 will allow us to refine our understanding of the clinical course and presentation in animals, gain a sense of the burden that SARS-COV-2 testing places on health officials, and develop an estimate of national prevalence of SARS-CoV-2. In turn, these data can help inform guidance and recommendations, as well as surveillance directives for future emerging infectious diseases.

The need for these data has been discussed with federal, state, tribal, local, and territorial partners and the questionnaire was developed in consultation with these stakeholders. CDC requests approval for an estimated 8,000 annual burden hours. There is no cost to respondents other than their time.

Estimated Annualized Burden Hours
Type of respondents | Form name | Number of respondents | Number of responses per respondent | Average burden per response (in hours) | Total burden (in hours)
State public health veterinarians, State animal health officials, and wildlife veterinarians | State Level Veterinary Authority Surveillance Questionnaire | 80 | 400 | 15/60 | 8,000

Jeffrey M. Zirger,
Lead, Information Collection Review Office, Office of Scientific Integrity, Office of Science, Centers for Disease Control and Prevention.

[FR Doc. 2021-17348 Filed 8-12-21; 8:45 am]

BILLING CODE 4163-18-P